DEPARTMENT OF DEFENSE

Department of the Navy

Notice of Intent To Prepare an Environmental Impact Statement (EIS)/Overseas Environmental Impact Statement (OEIS) for the Relocation of U.S. Marine Corps Forces to Guam, Enhancement of Infrastructure and Logistic Capabilities, Improvement of Pier/Waterfront Infrastructure for Transient U.S. Navy Nuclear Aircraft Carrier (CVN) at Naval Base Guam, and Placement of a U.S. Army Ballistic Missile Defense (BMD) Task Force in Guam

AGENCY: Department of the Navy, DoD.

ACTION: Notice.

SUMMARY: Pursuant to section 102(2)(C) of the National Environmental Policy of 1969, as implemented by the Council on Environmental Quality Regulations (40 CFR Parts 1500-1508), and Executive Order 12114, the Department of the Navy (DON) announces its intent to prepare an EIS/OEIS to evaluate the potential environmental effects associated with relocating Command, Air, Ground, and Logistics units (which includes approximately 8,000 service members and 9,000 family members) from Okinawa, Japan to Guam. The EIS/OEIS will examine potential impacts from activities associated with the Marine Corps units' relocation to include operations, training, and infrastructure changes.

DON also proposes to enhance the infrastructure, logistic capabilities, and improve pier/waterfront facilities to support transient CVN berthing at Naval Base Guam. The EIS/OEIS will examine potential impacts of the waterfront improvements associated with the proposed transient berthing.

Finally, the proposed action will evaluate placing a BMD task force (approximately 630 service members and 950 family members) in Guam. The EIS/OEIS will examine potential impacts from activities associated with the task force to include operations, training, and infrastructure changes.

The purpose and need of the proposed action is to fulfill U.S. government national security and alliance requirements in the Western Pacific Region. Guam's location as the westernmost part of the United States is critical to national security. The Department of Defense (DoD) national security strategy would increase the role of Guam and the Commonwealth of the Northern Mariana Islands (CNMI) through the relocation of Marines to Guam, increased presence of a transient CVN, and enhanced capability to defend critical military assets.

Mission critical, mission support, and community support infrastructure improvements are needed to ensure that Navy Region Marianas can provide expanded direct support of the DoD strategic mission and operational readiness in the Western Pacific Region. Infrastructure improvements would need to provide:

• Military training, subsequent garrison, operations, and infrastructure to support the U.S. Marines relocation to Guam.

• Port infrastructure for support to the transient presence of a CVN within Apra Harbor.

• Infrastructure to support the BMD task force, which can intercept missiles with potential to impact the critical military assets.

The EIS/OEIS will consider reasonable alternatives for siting operational, training, and support facilities on Guam, in addition to the no-action alternative. The DON Joint Guam Program Office (JGPO) will seek the input of the public on siting alternatives during the scoping meetings described below.

Seven Federal agencies will be invited to be cooperating agencies: National Oceanographic and Atmospheric Administration; National Marine Fisheries; U.S. Fish and Wildlife Service; U.S. Department of Agriculture, Wildlife Services; Department of Transportation Federal Highway Administration; Federal Aviation Administration; and the National Park Service.

DATES AND ADDRESSES: Public scoping meetings will be held on Guam, Saipan, and Tinian to receive oral and/or written comments that should be addressed in the EIS/OEIS. The public scoping open houses will be held at the following dates, times, and locations:

1. Tuesday, April 3, 2007, 5 p.m.-8 p.m., location TBD (Guam, in central business area);

2. Wednesday, April 4, 2007, 5 p.m.-8 p.m., location TBD (Saipan); and

3. Thursday, April 5, 2007, 5 p.m.-8 p.m., location TBD (Tinian).

Federal Agencies, Government of Guam agencies, Government of CNMI agencies, the public, and other interested parties are encouraged to provide oral and/or written comments to the DON to identify specific issues or topics for consideration in the EIS/OEIS. The DON will consider comments received in determining the scope of the EIS/OEIS.

FOR FURTHER INFORMATION CONTACT: Captain Robert Lee, Commander, Navy Region Marianas, PSC 455 Box 152, FPO AP, Guam 96540, telephone 671-339-6156, e-mail at: Robert.Lee@guam.navy.mil.

SUPPLEMENTARY INFORMATION: The Office of the Secretary of Defense directed the DON to establish a JGPO to facilitate, manage, coordinate, and execute certain DoD actions in Guam. The proposed actions for consideration in the announced EIS/OEIS are under the cognizance of the JGPO, the DON action proponent.

Guam is host to the westernmost U.S. military installation on U.S. soil, and is located 2,400 kilometers (1,500 miles) from the Western Pacific Rim. The location of Guam allows for rapid deployment of military units to areas of possible conflict in the Western Pacific Region. The proposed action is required to maintain the DON's capability to accomplish its mission in this critical geographic region in support of the U.S./Japan Alliance and consistent with the DoD Integrated Global Positioning and Basing Strategy and Quadrennial Defense Review.

The proposed action would relocate an Air Combat Element, Command Element, Ground Combat Element, and Command Service Support Element of the U.S. Marines to Guam, provide enhanced CVN transient operational capability and logistics support at Guam Naval Base, and for defense, locate a U.S. Army BMD task force on Guam. The proposed action includes rehabilitation or construction of operational facilities, support facilities (such as housing), and training areas on Guam and other locations within the Mariana Islands.

The EIS/OEIS will analyze a range of alternative sites for facilities needed to support the proposed actions. Administrative, housing, training, and operations functions will be evaluated to determine a range of reasonable alternative locations within the Marianas. Reasonable alternatives, including, but not limited to, alternative configurations within Guam and the CNMI, will be considered to accommodate the operations, training, and infrastructure requirements associated with the proposed relocation of service and family members, the enhancement of CVN transient operational capabilities, and the siting of a U.S. Army BMD task force with its service and family members. The EIS/OEIS also will analyze and consider the No Action alternative.

Impacts and issues to be addressed in the EIS/OEIS include, but are not limited to, the following resource areas: Coral and coral reefs, marine and terrestrial natural resources, including threatened and endangered species, water quality, noise, land use, airspace management, fishing, navigation, recreation, historical and cultural resources, utilities, and socioeconomics. The EIS/OEIS will include an evaluation of the project's direct, indirect, short-term, long-term, and cumulative impacts. No decision will be made to implement any alternative until the EIS/OEIS process is completed and a Record of Decision is signed by the Assistant Secretary of the Navy (Installations and Environment).

The JGPO is initiating the scoping process to identify community concerns and local issues to be addressed in the EIS/OEIS. Federal agencies, State agencies, local agencies, and interested persons are encouraged to provide oral and/or written comments identifying specific issues or topics of environmental concern that should be addressed in the EIS/OEIS. Written comments must be postmarked by May 1, 2007, and should be mailed to: JGPO, 258 Makalapa Drive, Suite 100, Pearl Harbor, HI 96860-3134, Attention: EV2.

Dated: February 28, 2007.
M.A. Harvison,
Lieutenant Commander, Judge Advocate General's Corps, U.S. Navy, Federal Register Liaison Officer.

[FR Doc. E7-3800 Filed 3-6-07; 8:45 am]

BILLING CODE 3810-FF-P